FEDERAL COMMUNICATIONS COMMISSION

47 CFR Parts 2, 22, 24, 25, 27, 90, 95 and 101

[ET Docket No. 15-170; DA 16-348]

Incorporating the American National Standard for Compliance Testing of Transmitters Used in Licensed Radio Services (ANSI C63.26-2015) Into the Commission's Rules

AGENCY: Federal Communications Commission.

ACTION: Proposed rule.

SUMMARY: In this document, the Commission acknowledges the publication of ANSI C63.26-2015 “American National Standard for Compliance Testing of Transmitters Used in Licensed Radio Services” and seeks comment on incorporating it into the Commission's rules by reference as part of an open rulemaking proceeding that addresses its equipment authorization (EA) rules and procedures. The standard was recently published and is now an “active standard”—that is, the standards association considers it to be valid, current, and approved.

DATES: Submit comments on or before May 5, 2016. Reply Comment Date: May 16, 2016.

ADDRESSES: Pursuant to sections 1.415 and 1.419 of the Commission's rules, 47 CFR 1.415, 1.419, interested parties may file comments and reply comments on or before the dates indicated on this document. Comments may be filed using the Commission's Electronic Comment Filing System (ECFS). See Electronic Filing of Documents in Rulemaking Proceedings, 63 FR 24121 (1998).

Electronic Filers: Comments may be filed electronically using the Internet by accessing the ECFS: http://fjallfoss.fcc.gov/ecfs2/.

Paper Filers: Parties who choose to file by paper must file an original and one copy of each filing. If more than one docket or rulemaking number appears in the caption of this proceeding, filers must submit two additional copies for each additional docket or rulemaking number. Filings can be sent by hand or messenger delivery, by commercial overnight courier, or by first-class or overnight U.S. Postal Service mail. All filings must be addressed to the Commission's Secretary, Office of the Secretary, Federal Communications Commission.

All hand-delivered or messenger-delivered paper filings for the Commission's Secretary must be delivered to FCC Headquarters at 445 12th St. SW., Room TW-A325, Washington, DC 20554. The filing hours are 8:00 a.m. to 7:00 p.m. All hand deliveries must be held together with rubber bands or fasteners. Any envelopes and boxes must be disposed of before entering the building.

Commercial overnight mail (other than U.S. Postal Service Express Mail and Priority Mail) must be sent to 9300 East Hampton Drive, Capitol Heights, MD 20743.

U.S. Postal Service first-class, Express, and Priority mail must be addressed to 445 12th Street SW., Washington DC 20554. People with Disabilities: To request materials in accessible formats for people with disabilities (Braille, large print, electronic files, audio format), send an email to fcc504@fcc.gov or call the Consumer & Governmental Affairs Bureau at 202-418-0530 (voice), 202-418-0432 (tty).

Comments, reply comments, and ex parte submissions will be available for public inspection during regular business hours in the FCC Reference Center, Federal Communications Commission, 445 12th Street SW., CY-A257, Washington, DC 20554. These documents will also be available via ECFS. Documents will be available electronically in ASCII, Microsoft Word, and/or Adobe Acrobat.

FOR FURTHER INFORMATION CONTACT: Brian Butler, Office of Engineering and Technology, (202) 418-2702, email: Brian.Butler@fcc.gov, TTY (202) 418-2989.

SUPPLEMENTARY INFORMATION: This is a summary of the Commission's (Public Notice) ET Docket No 15-170, released April 1, 2016. The full text of this document is available for inspection and copying during normal business hours in the FCC Reference Center (Room CY-A257), 445 12th Street SW., Washington, DC 20554. The full text may also be downloaded at: www.fcc.gov. People with Disabilities: To request materials in accessible formats for people with disabilities (Braille, large print, electronic files, audio format), send an email to fcc504@fcc.gov or call the Consumer & Governmental Affairs Bureau at 202-418-0530 (voice), 202-418-0432 (tty).

Synopsis

By this Synopsis, we acknowledge the publication of ANSI C63.26-2015 “American National Standard for Compliance Testing of Transmitters Used in Licensed Radio Services,” and seek comment on incorporating it into the Commission's rules by reference as part of an open rulemaking proceeding that addresses our equipment authorization (EA) rules and procedures. Comments and reply comments should be filed in the existing EA docket, ET Docket No. 15-170.

As background, ANSI C63.26 was developed by the ANSI ASC C63 in order to provide manufacturers and test laboratories with the reliable and consistent measurement procedures necessary to demonstrate that transmitters used in licensed radio services comply with the Commission's technical requirements. The standard was recently published and is now an “active standard”—that is, the standards association considers it to be valid, current, and approved.

The Commission, in the Notice of Proposed Rulemaking Docket 15-170 (EA NPRM), initiated an examination of ways to update and modernize the rules and procedures associated with the equipment authorization program for radiofrequency (RF) devices. In the EA NPRM, the Commission acknowledged the then-pending ANSI C63.26 standard, and observed that references to the applicable measurement procedures in ANSI C63.26 could replace measurement procedures set forth in the part 2 equipment authorization rules and referred to in many specific licensed service subparts. In particular, the Commission noted that section 2.947 of the rules states that it will accept data which has been measured in accordance with standards or measurement procedures acceptable to the Commission and published by national engineering societies.

ANSI C63.26 is particularly relevant to the testing of digital devices, since our existing rules mostly address older analog technologies, and the supplemental guidance for digital device measurements has generally been provided by OET on an ad hoc basis. Moreover, because the standard complements the ANSI C63.10 standard for measurement procedures for unlicensed devices (which the Commission recently incorporated by reference), the use of ANSI C63.26 would facilitate the testing of devices that contain both licensed and unlicensed transmitters.

In the EA NPRM, the Commission asked parties to “take the ANSI C63.26 standards development into account when drafting their comments,” anticipated that it would “soon have to consider whether we should allow for the use of ANSI C63.26 once it has been adopted . . . and published,” and proposed “to seek comment on incorporating the ANSI C63.26 into our rules as soon as the standard becomes final.” As the standard has become final, and through this Public Notice, we seek comment on modifying section 2.910 of our rules, 47 CFR 2.910, to incorporate ANSI C63.26 by reference. By supplementing the record within existing Docket 15-170, the Commission will be able to consider the use of ANSI C63.26 as part of its comprehensive review of the EA process.

In addition to commenting on the potential adoption of ANSI C63.26 generally, commenters should address how the Commission would incorporate the standard into our existing rules, as discussed in the NPRM. For example, what are the specific part 2 measurement procedures that ANSI C63.26 would replace, and which individual service rules should be replaced with cross-references to part 2 (and, by extension, ANSI C63.26)? These filings should be made in ET Docket No. 15-170 within the pleading cycle time period listed above.

Incorporation by Reference. The OFR recently revised the regulations to require that agencies must discuss in the preamble of the rule ways that the materials the agency incorporates by reference are reasonably available to interested persons and how interested parties can obtain the materials. In addition, the preamble of the rule must summarize the material. 1 CFR 51.5(b). In accordance with OFR's requirements, the discussion in this section summarizes ANSI standards. Copies of the standards are available for purchase from these organizations: The Institute of Electrical and Electronic Engineers (IEEE), 3916 Ranchero Drive, Ann Arbor, MI 48108, 1-800-699-9277, http://www.techstreet.com/ieee; and the American National Standards Institute (ANSI), 25 West 43rd Street, 4th Floor, New York, NY 10036, (212) 642-4900, http://webstore.ansi.org/ansidocstore.

ANSI C63.26-2015, “American National Standard for Compliance Testing of Transmitters Used in Licensed Radio Services,” is ANSI approved and was published on January 15, 2016. The IBR previously proposed in 80 FR 46900 (2015) would also include this standard in multiple rule sections.

This standard, ANSI C63.26-2015, covers the procedures for testing a wide variety of licensed transmitters; including but not limited to transmitters operating under parts 22, 24, 25, 27, 90, 95 and 101 of the FCC Rules, transmitters subject to the general procedures in part 2 of the FCC Rules and procedures for transmitters not covered in the FCC Rules. The standard also addresses specific topics; e.g., ERP/EIRP, average power measurements and instrumentation requirements.

Federal Communications Commission.
Ronald T. Repasi,
Deputy Chief, Office of Engineering and Technology.

[FR Doc. 2016-09058 Filed 4-19-16; 8:45 am]

BILLING CODE 6712-01-P